ENVIRONMENTAL PROTECTION AGENCY

[FRL-7169-3]

Agency Information Collection Activities: Proposed Collection; Comment Request; Disinfectants/Disinfection Byproducts, Chemical and Radionuclides Rules: Lead and Copper Rule Amendment

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Disinfectants/Disinfection Byproducts, Chemical and Radionuclides Rules: Lead and Copper Rule Amendment, EPA ICR No. 1896.03, OMB Control No. 2040-0204 which expires September 30, 2002. Before submitting the ICR to OMB for review and approval, EPA is soliciting comments on specific aspects of the proposed information collection as described below.

DATES: Comments must be submitted on or before June 10, 2002.

ADDRESSES: To obtain a copy of the draft Disinfectants/Disinfection Byproducts, Chemical, and Radionuclides Rules: Lead and Copper Rule Amendment ICR without charge, please contact the Safe Drinking Water Hotline (800-426-4791). Hours of operation are 9:00 a.m. to 5:30 p.m. (ET), Monday-Friday, excluding Federal holidays. People interested in getting information or making comments about the Disinfectants/Disinfection Byproducts, Chemical, and Radionuclides Rules: Lead and Copper Rule Amendment ICR should direct inquiries or comments to the Office of Ground Water and Drinking Water, Drinking Water Protection Branch, Mail Code 4606M, 1200 Pennsylvania Avenue, NW, Washington, D.C. 20460.

FOR FURTHER INFORMATION CONTACT: Lisa Christ at (202)564-8354, fax (202) 564-3755, e-mail:christ.lisa@epa.gov.

SUPPLEMENTARY INFORMATION: Affected entities: Entities potentially affected by this action are Public Water Systems, primacy agents including regulators in the States, Puerto Rico, the U.S. Trust Territories; Indian Tribes and Alaska Native Villages, and in some instances, U. S. EPA Regional Administrators and staff.

Title: Disinfectants/Disinfection Byproducts, Chemical and Radionuclides Rules: Lead and Copper Rule Amendment, EPA ICR No. 1896.03, OMB Control No. 2040-0204 which expires September 30, 2002.

Abstract: The Disinfectants/Disinfection Byproducts, Chemical, and Radionuclides Rules ICR is the result of a consolidation of activities covered in the 1998 Stage 1 DBPR ICR, some rules and activities covered in the 1993 PWSS ICR and activities and rules previously covered in other Office of Ground Water Drinking Water (OGWDW) standalone ICRs. As part of the consolidation effort, the Disinfectants/Disinfection, Chemical, and Radionuclides Rules ICR will be amended to include burden and costs associated with the Lead and Copper Rule. The National Primary Drinking Water Regulations (NPDWRs) for Lead and Copper (The Lead and Copper Rule or LCR), promulgated by EPA in 1991, is a regulatory program mandated by the Safe Drinking Water Act (SDWA). The LCR's goal is to reduce the levels of lead and copper at the tap to as close to the maximum contaminant level goals of 0 parts per billion (ppb) of lead and 1.3 ppb of copper as possible. To accomplish this, the LCR requires community and non-transient non-community water systems to conduct periodic moitoring, optimize corrosion control and, under specified conditions, install source water treatment, conduct public education, and/or replace lead service lines in the distribution system.

In January 2000, EPA published the Lead and Copper Rule Minor Revisions (LCRMR) which eliminated unnecessary requirements, streamlined and reduced reporting burden, and promoted consistent national implementation. The LCRMR do not affect the lead or copper rule maximum contaminant level goals, action levels, or the basic regulatory requirements.

Monitoring, reporting and record keeping are required at both the system and State levels under the National Primary Drinking Water Regulations (NPDWRs). EPA has chosen to require the least frequent collection that remains consistent with overall public health preservation objectives. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated annual burden hours for the LCR amendment to the Disinfectants/Disinfection Byproducts, Chemical, and Radionuclides Rules ICR are 2,431,728 hours. The estimated average burden hours per response is 0.3 hours. The estimated average number of responses per respondent is 2.1. The estimated number of likely respondents annually is 76,001. The estimated annual cost is $14 million which represents O&M costs only.The estimated annual burden hours and costs for the LCR amendment will be additive to the current OMB inventory for the The Disinfectants/Disinfection Byproducts, Chemical, and Radionuclides Rules ICR. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 2, 2002.
Evelyn Washington,
Acting Director, Office of Ground Water Drinking Water.

[FR Doc. 02-8535 Filed 4-8-02; 8:45 am]

BILLING CODE 6560-50-P